DEPARTMENT OF AGRICULTURE

Food Safety and Inspection Service

[Docket No. 03-024N]

Codex Alimentarius Commission: Meeting of the Codex Committee on Nutrition and Foods for Special Dietary Uses

AGENCY: Food Safety and Inspection Service, USDA.

ACTION: Notice of public meeting and request for comments.

SUMMARY: The Office of the Under Secretary for Food Safety, U.S. Department of Agriculture (USDA) and the Food and Drug Administration (FDA), U.S. Department of Health and Human Services (HHS) are sponsoring a public meeting on September 16, 2003. The objective of the public meeting is to provide information and receive public comments on agenda items and draft United States positions that will be discussed at the 25th Session of the Codex Committee on Nutrition and Foods for Special Dietary Uses (CCNFSDU) to be held in Bonn, Germany, November 3-7, 2003.

The Under Secretary for Food Safety and FDA recognize the importance of providing interested parties the opportunity to obtain background information on the 25th Session of CCNFSDU and to address items on the agenda.

DATES: The public meeting is schelduled for Tuesday, September 16, 2003 from 1 p.m. to 4 p.m.

ADDRESSES: The public meeting will be held in the Auditorium (1A003), Food and Drug Administration, Harvey Wiley Federal Building, 5100 Paint Branch Parkway, College Park, MD. To receive copies of the Codex documents pertaining to the agenda items for the 25th CCNFSDU session, contact the FSIS Docket Clerk, U.S. Department of Agriculture, Food Safety and Inspection Service, Room 102, Cotton Annex, 300 12th Street, SW., Washington, DC 20250-3700. The documents will also be accessible via the World Wide Web at the following address: http://www.codexalimentarius.net. If you would like to submit comments on one or more agenda items, please send them, in triplicate, to the FSIS Docket Clerk and reference Docket #03-024N. The U.S. Delegate to the CCNFSDU, Dr. Elizabeth Yetley of the Food and Drug Administration, also invites U.S. (United States) interested parties to submit their comments electronically to the following e-mail address (ncrane@cfsan.fda.gov). All comments submitted in response to this notice will be available for public inspection in the Docket Clerk's Office between 8:30 a.m. and 4:30 p.m., Monday through Friday.

Pre-Registration: To gain admittance to this meeting, individuals must present a photo ID for identification and also are required to pre-register. In addition, no cameras or videotaping equipment will be permitted in the meeting room. To pre-register, please send the following information to this e-mail address (ncrane@cfsan.fda.gov) by September 1, 2003:

—Your Name

—Organization

—Mailing Address

—Phone number

—E-mail address

FOR FURTHER INFORMATION CONTACT: Ellen Matten, Staff Officer, U.S. Codex Office, FSIS, Room 4861, South Agriculture Building, 1400 Independence Avenue SW., Washington, DC 20250, Telephone (202) 205-7760; Fax: (202) 720-3157. Persons requiring a sign language interpreter or other special accommodations should notify Ms. Matten at the above number.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on Nutrition and Foods for Special Dietary Uses was established to study specific nutritional problems assigned to it by the Commission and advise the Commission on general nutritional issues; to draft general provisions as appropriate, concerning the nutritional aspects of all foods; to develop standards, guidelines or related texts for foods for special dietary uses, in cooperation with other committees when necessary; and to consider, amend if necessary, and endorse provisions on nutritional aspects proposed for inclusion in Codex standards, guidelines and related texts. The committee is hosted by the Federal Republic of Germany.

Issues To Be Discussed at the Public Meeting

At a minimum, the following items will be on the Agenda for the 25th Session of the Committee:

1. Guidelines for Use of Nutrition Claims: Draft Table of Conditions for Nutrient Contents: (Part B, containing provisions on Dietary Fiber).

2. Draft Revised Standard for Gluten-Free Foods.

3. Proposed Draft Guidelines for Vitamin and Mineral Supplements.

4. Proposed Draft Revised Standard for Processed Cereal-Based Foods for Infants and Young Children.

5. Proposed Draft Revised Standard for Infant Formula.

6. Proposed Draft Revision of the Advisory List(s) of Mineral Salts and Vitamin Compounds for the Use in Foods for Infants and Young Children (CAC/GL 10-1979).

7. Proposed Draft Recommendations of the Scientific Basis of Health Claims.

8. Discussion Paper on Energy Conversion Factors.

9. Discussion Paper on the application of risk analysis to the work of CCNFSDU.

Note: The provisional agenda for the 25th CCNFSDDU session will be posted on the World Wide Web in advance of the meeting at the following address: http://www.codexalimentarius.net.

Public Meeting

At the September 16th public meeting, the issues and draft United States positions on the issues will be described, discussed, and attendees will have the opportunity to pose questions and offer comments. Comments may be sent to the FSIS Docket Room (Docket #03-024N) (see ADDRESSES). In addition, they may be sent electronically to the U.S. Delegate (see ADDRESSES), Please state that your comments relate to CCNFSDU activities and specify which issues your comments address.

Additional Public Notification

Public awareness of all segments of rulemaking and policy development is important. Consequently, in an effort to better ensure that minorities, women, and persons with disabilities are aware of this notice; FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC on: July 7, 2003.
F. Edward Scarbrough,
U.S. Manager for Codex Alimentarius.

[FR Doc. 03-17470 Filed 7-9-03; 8:45 am]

BILLING CODE 3410-DM-M